SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: September 1, 2010, through September 30, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals By Rule Issued Under 18 CFR 806.22(e)

1. Hazleton Creek Properties, LLC; Hazleton Creek Properties, LLC—Mine Reclamation Site, ABR-201009108, Hazleton City, Luzerne County, Pa.; Consumptive Use of up to 0.055 mgd; Approval Date: September 10, 2010.

Approvals By Rule Issued Under 18 CFR 806.22(f)

1. Chesapeake Appalachia, LLC, Pad ID: Vera, ABR-201009001, Fox Township, Sullivan County, Pa.; Consumptive Use of up to 7.500 mgd; Approval Date: September 3, 2010.

2. Chief Oil & Gas LLC, Pad ID: Allen Drilling Pad #1, ABR-201009002, Asylum Township, Bradford County, Pa.; Consumptive Use of up to 2.000 mgd; Approval Date: September 3, 2010.

3. Anadarko E&P Company LP, Pad ID: Plants Evergreen Farm Pad A, ABR-201009003, Cascade Township, Lycoming County, Pa.; Consumptive Use of up to 3.000 mgd; Approval Date: September 3, 2010.

4. EOG Resources, Inc., Pad ID: OBERKAMPER Pad, ABR-201009004, Springfield Township, Bradford County, Pa.; Consumptive Use of up to 4.999 mgd; Approval Date: September 3, 2010.

5. EOG Resources, Inc., Pad ID: ROBBINS Pad, ABR-201009005, Springfield Township, Bradford County, Pa.; Consumptive Use of up to 4.999 mgd; Approval Date: September 3, 2010.

6. Pennsylvania General Energy Co. LLC, Pad ID: Shannon Todd Pad A, ABR-201009006, Todd Township, Huntingdon County, Pa.; Consumptive Use of up to 3.000 mgd; Approval Date: September 3, 2010.

7. Chesapeake Appalachia, LLC, Pad ID: Alberta, ABR-201009007, Albany Township, Bradford County, Pa.; Consumptive Use of up to 7.500 mgd; Approval Date: September 3, 2010.

8. EOG Resources, Inc. Pad ID: MULLALY Pad, ABR-201009008, Ridgebury Township, Bradford County, Pa.; Consumptive Use of up to 4.999 mgd; Approval Date: September 3, 2010.

9. Chesapeake Appalachia, LLC, Pad ID: SGL 289B, ABR-201009009, West Burlington Township, Bradford County, Pa.; Consumptive Use of up to 7.500 mgd; Approval Date: September 3, 2010.

10. Cabot Oil & Gas Corporation, Pad ID: King P1, ABR-201009010, Dimock Township, Susquehanna County, Pa.; Consumptive Use of up to 3.575 mgd; Approval Date: September 3, 2010.

11. Chesapeake Appalachia, LLC, Pad ID: Stoudt, ABR-201009011, Overton Township, Bradford County, Pa.; Consumptive Use of up to 7.500 mgd; Approval Date: September 3, 2010.

12. EOG Resources, Inc. Pad ID: GHC Pad A, ABR-201009012, Lawrence Township, Clearfield County, Pa.; Consumptive Use of up to 4.999 mgd; Approval Date: September 3, 2010.

13. Anadarko E&P Company LP, Pad ID: COP Tract 685 Pad C, ABR-201009013, Cummings Township, Lycoming County, Pa.; Consumptive Use of up to 3.000 mgd; Approval Date: September 3, 2010, including a partial waiver of 18 CFR 806.15.

14. Talisman Energy USA Inc., Pad ID: 03 003 Vanblarcom, ABR-201009014, Columbia Township, Bradford County, Pa.; Consumptive Use of up to 6.000 mgd; Approval Date: September 3, 2010.

15. EXCO Resources (PA), LLC, Pad ID: Litke 1H, 2H, ABR-20090425.1, Burnside Township, Centre County, Pa.; Consumptive Use of up to 4.000 mgd; Approval Date: September 4, 2010, including a partial waiver of 18 CFR 806.15.

16. EXCO Resources (PA), LLC, Pad ID: Litke (7H & 8H), ABR-20090426.1, Burnside Township, Centre County, Pa.; Consumptive Use of up to 4.000 mgd; Approval Date: September 4, 2010, including a partial waiver of 18 CFR 806.15.

17. Talisman Energy USA Inc., Pad ID: 05 035 Antisdel, ABR-201009015, Warren and Windham Townships, Bradford County, Pa.; Consumptive Use of up to 6.000 mgd; Approval Date: September 7, 2010.

18. Talisman Energy USA Inc., Pad ID: 05 036 Antisdel, ABR-201009016, Warren Township, Bradford County, Pa.; Consumptive Use of up to 6.000 mgd; Approval Date: September 7, 2010.

19. Talisman Energy USA Inc., Pad ID: 03 011 Eick, ABR-201009017, Columbia Township, Bradford County, Pa.; Consumptive Use of up to 6.000 mgd; Approval Date: September 7, 2010.

20. Talisman Energy USA Inc., Pad ID: 03 028 Jennings, ABR-201009018, Wells Township, Bradford County, Pa.; Consumptive Use of up to 6.000 mgd; Approval Date: September 7, 2010.

21. Talisman Energy USA Inc., Pad ID: 03 073 Ritz, ABR-201009019, Columbia Township, Bradford County, Pa.; Consumptive Use of up to 6.000 mgd; Approval Date: September 7, 2010.

22. Ultra Resources, Inc., Pad ID: State 811, ABR-201009020, Elk Township, Tioga County, Pa.; Consumptive Use of up to 4.990 mgd; Approval Date: September 7, 2010, including a partial waiver of 18 CFR 806.15.

23. Ultra Resources, Inc., Pad ID: State 844, ABR-201009021, Elk Township, Tioga County, Pa.; Consumptive Use of up to 4.990 mgd; Approval Date: September 7, 2010, including a partial waiver of 18 CFR 806.15.

24. EOG Resources, Inc., Pad ID: COP Pad J, ABR-201009022, Lawrence Township, Clearfield County, Pa.; Consumptive Use of up to 4.999 mgd; Approval Date: September 8, 2010.

25. EOG Resources, Inc., Pad ID: PHC Pad S, ABR-201009023, Lawrence Township, Clearfield County, Pa.; Consumptive Use of up to 4.999 mgd; Approval Date: September 8, 2010.

26. Talisman Energy USA Inc., Pad ID: 03 071 Wolf, ABR-201009024, Wells Township, Bradford County, Pa.; Consumptive Use of up to 6.000 mgd; Approval Date: September 8, 2010.

27. Talisman Energy USA Inc., Pad ID: 03 070 Wolf, ABR-201009025, Wells Township, Bradford County, Pa.; Consumptive Use of up to 6.000 mgd; Approval Date: September 8, 2010.

28. East Resources Management, LLC, Pad ID: Wood 496, ABR-201009026, Richmond Township, Tioga County, Pa.; Consumptive Use of up to 4.000 mgd; Approval Date: September 7, 2010.

29. East Resources Management, LLC, Pad ID: Fish 826, ABR-201009027, Middlebury Township, Tioga County, Pa.; Consumptive Use of up to 4.000 mgd; Approval Date: September 8, 2010.

30. XTO Energy Incorporated, Pad ID: Houseweart 8527H, ABR-201009028, Pine Township, Columbia County, Pa.; Consumptive Use of up to 4.000 mgd; Approval Date: September 8, 2010.

31. East Resources Management, LLC, Pad ID: Guindon 706, ABR-201009029, Union Township, Tioga County, Pa.; Consumptive Use of up to 4.000 mgd; Approval Date: September 8, 2010.

32. EOG Resources, Inc. Pad ID: SGL 94 Pad A, ABR-201009030, Lawrence Township, Clearfield County, Pa.; Consumptive Use of up to 4.999 mgd; Approval Date: September 8, 2010.

33. Chesapeake Appalachia, LLC, Pad ID: Williams, ABR-201009031, Ulster Township, Bradford County, Pa.; Consumptive Use of up to 7.500 mgd; Approval Date: September 9, 2010.

34. Talisman Energy USA Inc., Pad ID: 05 010 Willard S, ABR-201009032, Orwell Township, Bradford County, Pa.; Consumptive Use of up to 6.000 mgd; Approval Date: September 9, 2010.

35. Talisman Energy USA Inc., Pad ID: 05 023 Edsell, ABR-201009033, Pike Township, Bradford County, Pa.; Consumptive Use of up to 6.000 mgd; Approval Date: September 9, 2010.

36. Talisman Energy USA Inc., Pad ID: 05 024 Edsell, ABR-201009034, Pike Township, Bradford County, Pa.; Consumptive Use of up to 6.000 mgd; Approval Date: September 9, 2010.

37. Talisman Energy USA Inc., Pad ID: 05 069 Carrington, ABR-201009035, Orwell Township, Bradford County, Pa.; Consumptive Use of up to 6.000 mgd; Approval Date: September 9, 2010.

38. Chesapeake Appalachia, LLC, Pad ID: Troise, ABR-201009036, Sheshequin Township, Bradford County, Pa.; Consumptive Use of up to 7.500 mgd; Approval Date: September 9, 2010.

39. Chesapeake Appalachia, LLC, Pad ID: Decker Farms, ABR-201009037, Rush Township, Susquehanna County, Pa.; Consumptive Use of up to 7.500 mgd; Approval Date: September 9, 2010.

40. EOG Resources, Inc. Pad ID: COP Pad P, ABR-201009038, Lawrence Township, Clearfield County, Pa.; Consumptive Use of up to 4.999 mgd; Approval Date: September 9, 2010.

41. EOG Resources, Inc. Pad ID: PHC Pad T, ABR-201009039, Lawrence Township, Clearfield County, Pa.; Consumptive Use of up to 4.999 mgd; Approval Date: September 9, 2010.

42. Anadarko E&P Company LP, Pad ID: WW Litke Pad B, ABR-201009040, Curtin Township, Centre County, Pa.; Consumptive Use of up to 3.000 mgd; Approval Date: September 9, 2010, including a partial waiver of 18 CFR 806.15.

43. Chesapeake Appalachia, LLC, Pad ID: Keeler Hollow, ABR-201009041, Smithfield Township, Bradford County, Pa.; Consumptive Use of up to 7.500 mgd; Approval Date: September 10, 2010.

44. East Resources Management, LLC, Pad ID: Kalke 819, ABR-201009042, Chatham Township, Tioga County, Pa.; Consumptive Use of up to 4.000 mgd; Approval Date: September 10, 2010.

45. Anadarko E&P Company LP, Pad ID: COP Tract 290 Pad A, ABR-201009043, McHenry Township, Lycoming County, Pa.; Consumptive Use of up to 3.000 mgd; Approval Date: September 10, 2010, including a partial waiver of 18 CFR 806.15.

46. Novus Operating, LLC, Pad ID: Sparrow Hawk, ABR-201009044, Covington Township, Tioga County, Pa.; Consumptive Use of up to 2.000 mgd; Approval Date: September 10, 2010.

47. East Resources Management, LLC, Pad ID: Hotchkiss 472, ABR-201009045, Charleston Township, Tioga County, Pa.; Consumptive Use of up to 4.000 mgd; Approval Date: September 10, 2010.

48. Anadarko E&P Company LP, Pad ID: Douglas C Kinley Pad A, ABR-201009046, Lycoming Township, Lycoming County, Pa.; Consumptive Use of up to 3.000 mgd; Approval Date: September 10, 2010.

49. Cabot Oil & Gas Corporation, Pad ID: Cosner P1R, ABR-201009047, Springville Township, Susquehanna County, Pa.; Consumptive Use of up to 3.575 mgd; Approval Date: September 10, 2010.

50. Anadarko E&P Company LP, Pad ID: COP Tract 289 Pad E, ABR-201009048, McHenry Township, Lycoming County, Pa.; Consumptive Use of up to 3.000 mgd; Approval Date: September 10, 2010, including a partial waiver of 18 CFR 806.15.

51. East Resources Management, LLC, Pad ID: Lingle 1102, ABR-201009049, Deerfield Township, Tioga County, Pa.; Consumptive Use of up to 4.000 mgd; Approval Date: September 10, 2010.

52. East Resources Management, LLC, Pad ID: Erickson 448, ABR-201009050, Delmar Township, Tioga County, Pa.; Consumptive Use of up to 4.000 mgd; Approval Date: September 10, 2010.

53. East Resources Management, LLC, Pad ID: Williams 889, ABR-201009051, Deerfield Township, Tioga County, Pa.; Consumptive Use of up to 4.000 mgd; Approval Date: September 10, 2010.

54. Cabot Oil & Gas Corporation, Pad ID: FraserE P1, ABR-201009052, Forest Lake Township, Susquehanna County, Pa.; Consumptive Use of up to 3.575 mgd; Approval Date: September 10, 2010.

55. EOG Resources, Inc. Pad ID: JACKSON 1H Pad, ABR-201009053, Springfield Township, Bradford County, Pa.; Consumptive Use of up to 4.999 mgd; Approval Date: September 10, 2010.

56. East Resources Management, LLC, Pad ID: Klettlinger 294, ABR-201009054, Delmar Township, Tioga County, Pa.; Consumptive Use of up to 4.000 mgd; Approval Date: September 10, 2010.

57. EOG Resources, Inc., Pad ID: SSHC Pad A, ABR-201009055, Lawrence Township, Clearfield County, Pa.; Consumptive Use of up to 4.999 mgd; Approval Date: September 13, 2010.

58. Ultra Resources, Inc., Pad ID: Bergey 812, ABR-201009056, Gaines Township, Tioga County, Pa.; Consumptive Use of up to 4.990 mgd; Approval Date: September 13, 2010.

59. Anadarko E&P Company LP, Pad ID: COP Tract 731 Pad A, ABR-201009057, Cummings Township, Lycoming County, Pa.; Consumptive Use of up to 3.000 mgd; Approval Date: September 13, 2010, including a partial waiver of 18 CFR 806.15.

60. East Resources Management, LLC, Pad ID: Owlett 843, ABR-201009058, Middlebury Township, Tioga County, Pa.; Consumptive Use of up to 4.000 mgd; Approval Date: September 13, 2010.

61. East Resources Management, LLC, Pad ID: Byrne 510, ABR-201009059, Rutland Township, Tioga County, Pa.; Consumptive Use of up to 4.000 mgd; Approval Date: September 13, 2010.

62. EOG Resources, Inc., Pad ID: HALSTEAD Pad, ABR-201009060, Ridgebury Township, Bradford County, Pa.; Consumptive Use of up to 4.999 mgd; Approval Date: September 14, 2010.

63. Chesapeake Appalachia, LLC, Pad ID: Driscoll, ABR-201009061, Overton Township, Bradford County, Pa.; Consumptive Use of up to 7.500 mgd; Approval Date: September 14, 2010.

64. XTO Energy Incorporated, Pad ID: FOX 8501H, ABR-201009062, Shrewsbury Township, Lycoming County, Pa.; Consumptive Use of up to 4.000 mgd; Approval Date: September 14, 2010.

65. East Resources Management, LLC, Pad ID: Seymour 599, ABR-201009063, Sullivan Township, Tioga County, Pa.; Consumptive Use of up to 4.000 mgd; Approval Date: September 15, 2010.

66. East Resources Management, LLC, Pad ID: Schmelzle 703, ABR-201009064, Union Township, Tioga County, Pa.; Consumptive Use of up to 4.000 mgd; Approval Date: September 15, 2010.

67. East Resources Management, LLC, Pad ID: Spencer 729, ABR-201009065, Liberty Township, Tioga County, Pa.; Consumptive Use of up to 4.000 mgd; Approval Date: September 15, 2010.

68. Chesapeake Appalachia, LLC, Pad ID: Delhagen, ABR-201009066, Rush Township, Susquehanna County, Pa.; Consumptive Use of up to 7.500 mgd; Approval Date: September 15, 2010.

69. Chesapeake Appalachia, LLC, Pad ID: Burleigh, ABR-201009067, Wyalusing Borough, Bradford County, Pa.; Consumptive Use of up to 7.500 mgd; Approval Date: September 15, 2010.

70. Chief Oil & Gas LLC, Pad ID: Quava Drilling Pad #1, ABR-201009068, Davidson Township, Sullivan County, Pa.; Consumptive Use of up to 2.000 mgd; Approval Date: September 15, 2010.

71. Chesapeake Appalachia, LLC, Pad ID: Bennett NMPY-38, ABR-201009069, Tuscarora Township, Bradford County, Pa.; Consumptive Use of up to 7.500 mgd; Approval Date: September 16, 2010.

72. Chief Oil & Gas LLC, Pad ID: Hemlock Hunting Club Drilling Pad #1, ABR-201009070, Elkland Township, Sullivan County, Pa.; Consumptive Use of up to 2.000 mgd; Approval Date: September 16, 2010.

73. Chief Oil & Gas LLC, Pad ID: Wistar-Shaffer Tracts Drilling Pad #1, ABR-201009071, Shrewsbury Township, Sullivan County, Pa.; Consumptive Use of up to 2.000 mgd; Approval Date: September 16, 2010.

74. Chesapeake Appalachia, LLC, Pad ID: Wygrala, ABR-201009072, Wysox Township, Bradford County, Pa.; Consumptive Use of up to 7.500 mgd; Approval Date: September 20, 2010.

75. Chesapeake Appalachia, LLC, Pad ID: Matt, ABR-201009073, Elkland Township, Sullivan County, Pa.; Consumptive Use of up to 7.500 mgd; Approval Date: September 20, 2010.

76. XTO Energy Incorporated, Pad ID: Lucella 8564H, ABR-201009074, Moreland Township, Lycoming County, Pa.; Consumptive Use of up to 4.000 mgd; Approval Date: September 20, 2010.

77. Talisman Energy USA Inc., Pad ID: 01 080 Ferguson, ABR-201009075, Granville Township, Bradford County, Pa.; Consumptive Use of up to 6.000 mgd; Approval Date: September 20, 2010.

78. Chesapeake Appalachia, LLC, Pad ID: Boyanowski, ABR-201009076, Meshoppen Township and Braintrim Township, Wyoming County, Pa.; Consumptive Use of up to 7.500 mgd; Approval Date: September 20, 2010.

79. Chesapeake Appalachia, LLC, Pad ID: Rain, ABR-201009077, Elkland Township, Sullivan County, Pa.; Consumptive Use of up to 7.500 mgd; Approval Date: September 20, 2010.

80. Talisman Energy USA Inc., Pad ID: 05 092 Upham, ABR-201009078, Pike Township, Bradford County, Pa.; Consumptive Use of up to 6.000 mgd; Approval Date: September 20, 2010.

81. Talisman Energy USA Inc., Pad ID: 05 074 Zimmerli, ABR-201009079, Orwell Township, Bradford County, Pa.; Consumptive Use of up to 6.000 mgd; Approval Date: September 20, 2010.

82. East Resources Management, LLC, Pad ID: Ingalls 710, ABR-201009080, Liberty Township, Tioga County, Pa.; Consumptive Use of up to 4.000 mgd; Approval Date: September 20, 2010.

83. East Resources Management, LLC, Pad ID: Talley 488, ABR-201009081, Covington Township, Tioga County, Pa.; Consumptive Use of up to 4.000 mgd; Approval Date: September 20, 2010.

84. Chesapeake Appalachia, LLC, Pad ID: Governale, ABR-201009082, Wysox Township, Bradford County, Pa.; Consumptive Use of up to 7.500 mgd; Approval Date: September 20, 2010.

85. Anadarko E&P Company LP, Pad ID: Gayla D Loch Pad A, ABR-201009083, Cogan House Township, Lycoming County, Pa.; Consumptive Use of up to 3.000 mgd; Approval Date: September 20, 2010.

86. Chesapeake Appalachia, LLC, Pad ID: Connell, ABR-201009084, Cherry Township, Sullivan County, Pa.; Consumptive Use of up to 7.500 mgd; Approval Date: September 20, 2010.

87. Southwestern Energy Production Company, Pad ID: Strong Pad, ABR-201009085, Herrick Township, Bradford County, Pa.; Consumptive Use of up to 4.990 mgd; Approval Date: September 20, 2010.

88. Southwestern Energy Production Company, Pad ID: Ross Pad, ABR-201009086, Herrick Township, Bradford County, Pa.; Consumptive Use of up to 4.990 mgd; Approval Date: September 20, 2010.

89. Chief Oil & Gas LLC, Pad ID: Lightner East Drilling Pad #1, ABR-201009087, Juniata Township, Blair County, Pa.; Consumptive Use of up to 2.000 mgd; Approval Date: September 21, 2010.

90. East Resources Management, LLC, Pad ID: Smith 589, ABR-201009088, Richmond Township, Tioga County, Pa.; Consumptive Use of up to 4.000 mgd; Approval Date: September 22, 2010.

91. East Resources Management, LLC, Pad ID: Martin 421, ABR-201009089, Delmar Township, Tioga County, Pa.; Consumptive Use of up to 4.000 mgd; Approval Date: September 22, 2010.

92. East Resources Management, LLC, Pad ID: Schimmel 830, ABR-201009090, Farmington Township, Tioga County, Pa.; Consumptive Use of up to 4.000 mgd; Approval Date: September 22, 2010.

93. East Resources Management, LLC, Pad ID: Lopatofsky 287, ABR-201009091, Charleston Township, Tioga County, Pa.; Consumptive Use of up to 4.000 mgd; Approval Date: September 22, 2010.

94. East Resources Management, LLC, Pad ID: Worden 571, ABR-201009092, Charleston Township, Tioga County, Pa.; Consumptive Use of up to 4.000 mgd; Approval Date: September 22, 2010.

95. Chesapeake Appalachia, LLC, Pad ID: Foster, ABR-201009093, Wysox Township, Bradford County, Pa.; Consumptive Use of up to 7.500 mgd; Approval Date: September 23, 2010.

96. Enerplus Resources (USA) Corporation, Pad ID: Winner 4H, ABR-201009094, West Keating Township, Clinton County, Pa.; Consumptive Use of up to 4.000 mgd; Approval Date: September 23, 2010.

97. East Resources Management, LLC, Pad ID: Empson 899, ABR-201009095, Deerfield Township, Tioga County, Pa.; Consumptive Use of up to 4.000 mgd; Approval Date: September 23, 2010.

98. East Resources Management, LLC, Pad ID: Burke 285, ABR-201009096, Charleston Township, Tioga County, Pa.; Consumptive Use of up to 4.000 mgd; Approval Date: September 23, 2010.

99. East Resources Management, LLC, Pad ID: Patterson 570, ABR-201009097, Charleston Township, Tioga County, Pa.; Consumptive Use of up to 4.000 mgd; Approval Date: September 24, 2010.

100. Williams Production Appalachia, LLC, Pad ID: Depue Well #2H, ABR-201009098, Franklin Township, Susquehanna County, Pa.; Consumptive Use of up to 4.000 mgd; Approval Date: September 27, 2010.

101. Anadarko E&P Company LP, Pad ID: Lycoming H&FC Pad B, ABR-201009099, Cogan House Township, Lycoming County, Pa.; Consumptive Use of up to 3.000 mgd; Approval Date: September 27, 2010.

102. Chesapeake Appalachia, LLC, Pad ID: Curtis New, ABR-201009100, Asylum Township, Bradford County, Pa.; Consumptive Use of up to 7.500 mgd; Approval Date: September 27, 2010.

103. East Resources Management, LLC, Pad ID: Sherman 498, ABR-201009101, Richmond Township, Tioga County, Pa.; Consumptive Use of up to 4.000 mgd; Approval Date: September 27, 2010.

104. Chesapeake Appalachia, LLC, Pad ID: Hope, ABR-201009102, Meshoppen Township, Wyoming County, Pa.; Consumptive Use of up to 7.500 mgd; Approval Date: September 28, 2010.

105. Chesapeake Appalachia, LLC, Pad ID: Kohler, ABR-201009103, Liberty Township, Tioga County, Pa.; Consumptive Use of up to 7.500 mgd; Approval Date: September 28, 2010.

106. Chesapeake Appalachia, LLC, Pad ID: Jaishawoo, ABR-201009104, Auburn Township, Susquehanna County, Pa.; Consumptive Use of up to 7.500 mgd; Approval Date: September 29, 2010.

107. Chesapeake Appalachia, LLC, Pad ID: Pinehollow, ABR-201009105, Rush Township, Susquehanna County, Pa.; Consumptive Use of up to 7.500 mgd; Approval Date: September 29, 2010.

108. EOG Resources, Inc., Pad ID: DEMEO 1H Pad, ABR-201009106, Ridgebury Township, Bradford County, Pa.; Consumptive Use of up to 4.999 mgd; Approval Date: September 30, 2010.

109. Anadarko E&P Company LP, Pad ID: Kenneth T Schriner Pad A, ABR-201009107, Gamble Township, Lycoming County, Pa.; Consumptive Use of up to 3.000 mgd; Approval Date: September 30, 2010.

Authority: Pub. L. 91-575, 84 Stat. 1509 et seq., 18 CFR parts 806, 807, and 808.

Dated: October 22, 2010.
Stephanie L. Richardson,
Secretary to the Commission.

[FR Doc. 2010-27440 Filed 10-28-10; 8:45 am]

BILLING CODE 7040-01-P